DEPARTMENT OF HEALTH AND HUMAN SERVICES

Centers for Disease Control and Prevention

Notice of Public Meeting and Availability for Public Comment

AGENCY: The National Institute for Occupational Safety and Health (NIOSH) of the Centers for Disease Control and Prevention (CDC), Department of Health and Human Services (HHS).

ACTION: Notice of Public Meeting and availability for Public Comment.

SUMMARY: The National Institute for Occupational Safety and Health (NIOSH) of the Centers for Disease Control and Prevention (CDC) announces the opportunity for the public to provide input regarding the plan (protocol) for a cohort study of persons formerly employed at the IBM facility in Endicott, New York.

Public Meeting Time and Date: 9 a.m.-4 p.m., November 8, 2008.

Place: Broome County Health Department, 225 Front Street, Binghamton, New York 13905.

Status: The meeting is open to the public, limited only by the space available (the room accommodates approximately 120 people). Broad participation is desired. Former workers, representatives of professional societies, organized labor, employers, researchers, health professionals, and government officials are encouraged to attend. Those who cannot attend in person are encouraged to e-mail or mail comments to Dr. Douglas Trout (see below). Deadline for all comments is December 8, 2008.

Participants wishing to provide stakeholder comments may do so via e-mail or may request an opportunity to make a five minute presentation. Participants making a presentation at the meeting must submit their comments in writing at the time of the meeting. All participants (whether making a presentation or not) must register for the free meeting by sending an e-mail to Dr. Douglas Trout at DTrout@cdc.gov with their name, affiliation, whether they are requesting time to speak briefly, and, if so, the general topic(s) on which they wish to speak. Participants wishing to speak are encouraged to register early.

Background: In response to public interest in the conduct of a study of cancer among former workers at IBM—Endicott, NIOSH conducted a feasibility effort to evaluate whether employee records were adequate to conduct a research study (a retrospective cohort mortality and cancer incidence study). This study protocol being developed makes extensive use of the information gathered during the feasibility effort, as well as a follow-up review of additional industrial hygiene, medical, and personnel records.

The protocol being reviewed describes the plan for a cohort study of persons formerly employed at the IBM facility in Endicott, New York, between 1965 and 2002. The health problems to be evaluated in the proposed study include mortality and cancer incidence among workers, as well as birth defects among offspring of these workers. Approximately 28,000 workers were employed by IBM—Endicott for at least one year during the period between 1965 and 2002.

The meeting will consist of two parts: (1) External peer review of the research protocol. Peer reviewers external to CDC will be present to provide their individual technical (scientific) review comments for the project officers to maximize the relevance and quality of the proposed research; and (2) Stakeholder meeting. The latter part of the meeting will be structured to hear stakeholder comments on important occupational safety and health issues related to this research.

Contact Person for Technical Information: Dr. Douglas Trout, MD, MHS, Associate Director for Science, Division of Surveillance, Hazard Evaluations, and Field Studies, NIOSH, telephone (513) 841-4428. Comments, meeting registrations, and requests for a copy of the protocol may be e-mailed to DTrout@cdc.gov or sent via mail to Dr. Douglas Trout, NIOSH, 4676 Columbia Parkway, Mailstop R12, Cincinnati, Ohio 45226.

Dated: October 9, 2008.
James D. Seligman,
Chief Information Officer, Centers for Disease Control and Prevention.

[FR Doc. E8-24731 Filed 10-16-08; 8:45 am]

BILLING CODE 4163-19-P